NUCLEAR REGULATORY COMMISSION

[NRC-2010-0215]

PSEG Power, LLC and PSEG Nuclear, LLC; Notice of Receipt and Availability of Application for an Early Site Permit

On May 25, 2010, PSEG Power, LLC and PSEG Nuclear, LLC filed with the U.S. Nuclear Regulatory Commission (NRC, the Commission) pursuant to section 103 of the Atomic Energy Act and Title 10 of the Code of Federal Regulations (10 CFR) Part 52, “Licenses, Certifications, and Approvals for Nuclear Power Plants,” an application for an early site permit (ESP) for the PSEG Site located in Salem County, New Jersey.

An applicant may seek an ESP in accordance with Subpart A of 10 CFR Part 52 separate from the filing of an application for a construction permit (CP) or combined license (COL) for a nuclear power facility. The ESP process allows resolution of issues relating to siting. At any time during the period of an ESP (up to 20 years), the permit holder may reference the permit in an application for a CP or COL.

Subsequent Federal Register notices will address the acceptability of the tendered ESP application for docketing and provisions for participation of the public in the ESP review process.

A copy of the application is available for public inspection at the Commission's Public Document Room (PDR), located at One White Flint North, Public File Area O1 F21, 11555 Rockville Pike (first floor), Rockville, Maryland, and via the Agencywide Documents Access and Management System (ADAMS) Public Electronic Reading Room on the Internet at the NRC Web site, http://www.nrc.gov/reading-rm/adams.html. The cover letter ADAMS Accession Number is ML101480484. Future publicly available documents related to the application will also be posted in ADAMS. Persons who do not have access to ADAMS, or who encounter problems in accessing the documents located in ADAMS, should contact the NRC Public Document Room staff by telephone at 1-800-397-4209 or 301-415-4737, or by e-mail to pdr@nrc.gov. The application is also available at http://www.nrc.gov/reactors/new-reactors/esp.html.

Dated at Rockville, Maryland, this 14th day of June 2010.
For The Nuclear Regulatory Commission.
Prosanta Chowdhury,
Project Manager, EPR Projects Branch, Division of New Reactor Licensing, Office of New Reactors.

[FR Doc. 2010-14754 Filed 6-17-10; 8:45 am]

BILLING CODE 7590-01-P